DEPARTMENT OF HOUSING AND URBAN DEVELOPMENT

[Docket No. FR-5480-N-97]

Notice of Submission of Proposed Information Collection to OMB Housing Choice Voucher Program Administrative Fee Study Pretest

AGENCY: Office of the Chief Information Officer, HUD.

ACTION: Notice.

SUMMARY: The proposed information collection requirement described below has been submitted to the Office of Management and Budget (OMB) for review, as required by the Paperwork Reduction Act. The Department is soliciting public comments on the subject proposal.

The Housing Choice Voucher (HCV) program is the federal government's largest low-income housing assistance program. As of 2010, the Housing Choice Voucher program serves more than 2 million households, at a total subsidy cost of $18.2 billion per year. The HCV program is administered federally by the U.S. Department of Housing and Urban Development and locally by approximately 2,400 local, state, and regional housing agencies, known collectively as public housing agencies (PHAs). Funding for the HCV program is provided entirely by the federal government. The funding that PHAs receive includes the housing subsidy itself, plus administrative fees to cover the costs of running the program. When the voucher program was first implemented in the 1970s, the system for reimbursing PHAs for the costs of program administration was loosely based on empirical evidence. Over time, however, the system for estimating and allocating fees has become more complex and—in some ways—more arbitrary, as HUD and Congress have tried to balance fairness with cost savings, while trying to avoid large year-to-year swings in funding for PHA staffs. The Housing Choice Voucher Program Administrative Fee Study is designed to evaluate the amount of funding needed to administer the voucher program based on direct measurement of the work actually performed by voucher administrators. The study will measure and identify the tasks performed by PHA staff to meet program requirements, to assist voucher holders in finding and renting suitable housing in a timely way, and to ensure that a broad range of affordable rental housing throughout the community is available to voucher families. The study will identify the costs involved in each task, including salaries, benefits, and overhead. Ultimately, the findings of the study will be used to inform the development of a new formula for allocating HCV program administrative fees.

DATES: Comments Due Date: October 27, 2011.

ADDRESSES: Interested persons are invited to submit comments regarding this proposal. Comments should refer to the proposal by name and/or OMB approval Number (2528-0267) and should be sent to: HUD Desk Officer, Office of Management and Budget, New Executive Office Building, Washington, DC 20503; e-mail OIRA-Submission@omb.eop.gov fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Choice Voucher Program Administrative Fee Study Pretest.

OMB Approval Number: 2528-0267.

Form Numbers: None.

Description of the Need for the Information and its Proposed Use: The Housing Choice Voucher (HCV) program is the federal government's largest low-income housing assistance program. As of 2010, the Housing Choice Voucher program serves more than 2 million households, at a total subsidy cost of $18.2 billion per year. The HCV program is administered federally by the U.S. Department of Housing and Urban Development and locally by approximately 2,400 local, state, and regional housing agencies, known collectively as public housing agencies (PHAs). Funding for the HCV program is provided entirely by the federal government. The funding that PHAs receive includes the housing subsidy itself, plus administrative fees to cover the costs of running the program. When the voucher program was first implemented in the 1970s, the system for reimbursing PHAs for the costs of program administration was loosely based on empirical evidence. Over time, however, the system for estimating and allocating fees has become more complex and—in some ways—more arbitrary, as HUD and Congress have tried to balance fairness with cost savings, while trying to avoid large year-to-year swings in funding for PHA staffs. The Housing Choice Voucher Program Administrative Fee Study is designed to evaluate the amount of funding needed to administer the voucher program based on direct measurement of the work actually performed by voucher administrators. The study will measure and identify the tasks performed by PHA staff to meet program requirements, to assist voucher holders in finding and renting suitable housing in a timely way, and to ensure that a broad range of affordable rental housing throughout the community is available to voucher families. The study will identify the costs involved in each task, including salaries, benefits, and overhead. Ultimately, the findings of the study will be used to inform the development of a new formula for allocating HCV program administrative fees.

Frequency of Submission: Annually.

| Number of respondents | Annual responses | × | Hours per response | = | Burden hours
Reporting Burden | 12 | 294 |  | 0.348 |  | 1,248

Total Estimated Burden Hours: 1,248.

Status: Revision of a currently approved collection.

Authority: Section 3507 of the Paperwork Reduction Act of 1995, 44 U.S.C. 35, as amended.

Dated: September 22, 2011.
Colette Pollard,
Departmental Reports Management Officer, Office of the Chief Information Officer.

[FR Doc. 2011-24813 Filed 9-26-11; 8:45 am]

BILLING CODE 4210-67-P